DEPARTMENT OF COMMERCE

Foreign-Trade Zones Board

[Docket 5-2002]

Foreign-Trade Zone 61—San Juan, Puerto Rico Expansion of Manufacturing Authority-Subzone 61G IPR Pharmaceuticals, Inc. Plant (Pharmaceuticals) Carolina, PR

An application has been submitted to the Foreign-Trade Zones Board (the Board) by IPR Pharmaceuticals, Inc., requesting to expand the scope of manufacturing authority under zone procedures within Subzone 61G, at the IPR plant in Carolina, Puerto Rico. It was formally filed on January 17, 2002.

Subzone 61G was approved by the Board in 1995 at a single site (2 bldgs./135,552 square feet, on 6.78 acres) located at Sabana Gardens Industrial Park, Main Street, Carolina, Puerto Rico, with authority granted for the manufacture of a range of human health products (Board Order 787, 60 FR 63499, December 11, 1995).

IPR is now proposing to expand the scope of authority for manufacturing activity conducted under FTZ procedures at Subzone 61G to include additional general categories of inputs that have recently been approved by the Board for other pharmaceutical plants. They include chemically pure sugars, empty capsules for pharmaceutical use, protein concentrates, natural magnesium phosphates and carbonates, gypsum, anhydrite and plasters, petroleum jelly, paraffin and waxes, sulfuric acid, other inorganic acids or compounds of nonmetals, ammonia, zinc oxide, titanium oxides, fluorides, chlorates, sulfates, salts of oxometallic acids, radioactive chemical elements, colloidal precious metals, compounds of rare earth metals, acyclic hydrocarbons, derivatives of phenols or peroxides, acetals and hemiacetals, phosphoric esters and their salts, diazo-compounds, glands for therapeutic uses, wadding, gauze and bandages, pharmaceutical glaze, hair preparations, lubricating preparations, albumins, prepared glues and adhesives, catalytic preparations, diagnostic or laboratory reagents, prepared binders, acrylic and ethylene polymers, self-adhesive plates and sheets, other articles of vulcanized rubber, plastic cases, cartons, boxes, printed books, brochures and similar printed matter, carboys, bottles, and flasks, stoppers, caps, and lids, aluminum foil, tin plates and sheets, taps, cocks and valves, and medical instruments and appliances. Materials sourced from abroad represent some 50%-65% of finished product value.

Zone procedures would exempt IPR from Customs duty payments on foreign materials used in production for export. Some 30-40 percent of the plant's shipments are exported. On domestic shipments, the company would be able to defer Customs duty payments on foreign materials, and to choose the duty rate that applies to finished products (duty free—14.2%) instead of the rates otherwise applicable to the foreign input materials (duty free—20%)(noted above). The application indicates that the savings from zone procedures would help improve IPR's international competitiveness.

In accordance with the Board's regulations, a member of the FTZ staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is March 11, 2002. Rebuttal comments in response to material submitted during the foregoing period may be submitted during the subsequent 5-day period (to March 18, 2002).

A copy of the application and accompanying exhibits will be available for public inspection at the Office of the Foreign-Trade Zones Board's Executive Secretary at address Number 1 listed above, and at the U.S. Department of Commerce Export Assistance Center, 525 F.D. Roosevelt Ave., Suite 905, San Juan, PR 00918.

Dated: January 16, 2002.
Dennis Puccinelli,
Executive Secretary.

[FR Doc. 02-1911 Filed 1-24-02; 8:45 am]

BILLING CODE 3510-DS-P